COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List a product and services to be furnished by nonprofit agencies employing persons who are blind or have other severe disabilities, and deletes from the Procurement List product previously furnished by such agencies.

EFFECTIVE DATE: September 22, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On May 17, June 28, and July 5, 2002, the Committee for Purchase From People Who Are Blind or Severely Disabled published notice (67 FR 35096, 43482, and 44808) of proposed additions to and deletions from the Procurement List.

After consideration of the material presented to it concerning capability of qualified nonprofit agencies to provide the product and services and impact of the additions on the current or most recent contractors, the Committee has determined that the product and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

Accordingly, the following product and services are added to the Procurement List:

Product

Product/NSN: Sash Cord, 4020-00-551-3343.

NPA: East Texas Lighthouse for the Blind, Tyler, Texas.

Contract Activity: GSA, General Products Center, Fort Worth, Texas.

Services

Service Type/Location: Base Supply Center, Headquarters U.S. Army Infantry Center, Fort Benning, Georgia.

NPA: L.C. Industries For The Blind, Inc., Durham, North Carolina.

Contract Activity: Headquarters U.S. Army Infantry Center, Fort Benning, Georgia.

Service Type/Location: Fulfillment Services, Veterans Affairs Blind Rehabilitation Center, Augusta, Georgia.

NPA: Columbia Lighthouse for the Blind, Washington, DC.

Contract Activity: Veterans Affairs Medical Center, Columbia, South Carolina.

Service Type/Location: Janitorial/Custodial, Air Traffic Control Tower, Indianapolis, Indiana.

NPA: Child-Adult Resource Services, Inc., Green Castle, Indiana.

Contract Activity: Federal Aviation Administration, Des Plains, Illinois.

Service Type/Location: Janitorial/Custodial, Air Traffic Control Tower, Peoria, Illinois.

NPA: Community Workshop & Training Center, Peoria, Illinois.

Contract Activity: Federal Aviation Administration, Des Plains, Illinois.

Service Type/Location: Janitorial/Custodial, U.S. Army Reserve Center, Danville, Illinois.

NPA: Rehab Products & Services, Danville, Illinois.

Contract Activity: HQ, 88th Regional Support Command, Fort Snelling, Minnesota.

Service Type/Location: Mailing Services, USDA, Animal and Plant Health Inspection Service, Food Safety Inspection Service, Minneapolis, Minnesota.

NPA: Tasks Unlimited, Inc., Minneapolis, Minnesota.

Contract Activity: Animal & Plant Health Inspection Service, Minneapolis.

Deletions

I certify that the following action will not have a significant impact on a substantial number of small entities. The major factors considered for this certification were:

1. The action may not result in any additional reporting, recordkeeping or other compliance requirements for small entities.

2. The action will not have a severe economic impact on future contractors for the products.

3. The action may result in authorizing small entities to furnish the products to the Government.

4. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are hereby deleted from the Procurement List:

Products

Product/NSN: Harness Assembly, 1660-00-066-2078.

NPA: Human Technologies Corporation, Utica, New York.

Contract Activity: Defense Supply Center—Richmond, Richmond, Virginia.

Product/NSN: Insert, Foam, Laminated, 8135-00-NSH-0002.

NPA: None currently authorized.

Contract Activity: Bureau of the Mint, Department of the Treasury, Washington, DC.

Sheryl D. Kennerly,
Director, Information Management.

[FR Doc. 02-21565 Filed 8-22-02; 8:45 am]

BILLING CODE 6353-01-P